ENVIRONMENTAL PROTECTION AGENCY

[ER-FRL-6632-9]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated April 12, 2002 (67 FR 17992).

Draft EISs

ERP No. D-BLM-K60033-NV Rating EC2, Toquop Energy Project, Toquop Land Disposal Amendment to the Caliente Management Framework Plan (MFP), Construction of a 1,100-megawatt (MW) Natural Gas-Fired Water-Cooled Electric Power Generating Plant and Associated Features on Public Lands, Right-of-Way Grant, Lincoln, Clark and Washoe Counties, NV.

Summary: EPA expressed environmental concerns about air and water quality impacts and cumulative impacts. EPA also requested additional information to support the purpose and need statement and a broader range of alternatives.

ERP No. DS-AFS-J65312-WY Rating EC2, Squirrel Meadows Grand Targhee Land Exchange Proposal, New Information and Current Environmental and Socioeconomic Conditions, Implementation, Targhee National Forest, Teton County, WY.

Summary: While the proposed land exchange would result in a net increase of Forest Service wetland acreage, EPA expressed environmental concerns that the proposed action would create a private inholding within the National Forest boundary, expanding the ski area base development 6 miles with potential adverse impacts on wildlife habitat. Information disclosing the full impacts of this action and the other proposed alternatives, including levels of management and environmental protection and further explanation of visitor data should be discussed in the final EIS.

ERP No. DS-FHW-K40224-CA Rating EC2, I-880/CA-92 Interchange Reconstruction, I-880 from Winton Avenue to Tennyson Road and CA-92 from Hesperian Boulevard to Santa Clara Street, Updated Information, Funding, City of Hayward, Alameda County, CA.

Summary: EPA expressed environmental concerns regarding air quality and environmental justice impacts from the proposed project. EPA recommended greater analysis of the potential for adverse health effects from air toxics related to the proposed project. EPA also recommended that the Federal Highway Administration revisit the environmental justice assessment and analyze impacts to minority populations within the project study area.

ERP No. DS-NRC-E06012-SC Rating EC1, GENERIC EIS—Catawba Nuclear Station, Unit 1 and 2 (Catawba), Renewal of the Operating Licenses (OLs) for an Additional 20-Year Period, Supplement 9 to NUREG-1437, York County, SC.

Summary: EPA expressed environmental concern about the need to clarify impacts of anticipated power demands.

Final EISs

ERP No. F-AFS-J65359-MT Lolo National Forest Post Burn Management Activities, Implementation, Ninemile, Superior and Plains Ranger Districts, Mineral, Missoula and Sanders Counties, MT.

Summary: EPA expressed environmental concerns about the impacts of sediment production/delivery from the proposed timber harvest and road management on water quality. EPA supports road decommissioning, road BMP improvements and other watershed restoration activities which should reduce sediment production and improve water quality, fisheries habitat, fish passage and connectivity over the long term.

ERP No. F-AFS-K65238-CA Star Fire Restoration Removal of Fire-Killed Trees, Road Reconstruction and Associated Restoration, Eldorado National Forest (ENF) Georgetown Ranger District, Middle Fork American River, Chipmunk Ridge and the North Fork of Long Canyon, Placer County, CA.

Summary: No formal comment letter was sent to the preparing agency.

ERP No. F-AFS-L65375-00 Lookout Pass Ski and Recreation Area (LPSRA) Expansion Project, Implementation, Amendment to the Existing Special Use Permit, NPDES Permit and U.S. Army COE Section 404 Permit, Idaho Panhandles National Forests, Coeur d 'Alene River Range District, ID and MT.

Summary: No formal comment letter was sent to the preparing agency.

ERP No. F-BLM-K09807-NV Table Mountain Wind Generating Facility Project, Construction of a 150 to 205 Megawatt (MW) Wind Powered Electric Generation Facility and Ancillary Facilities, Right-of-Way Grant, Spring Mountain Range between the Communities of Goodsprings, Sandy Valley, Jean and Primm, Clark County, NV.

Summary: No formal comment letter was sent to the preparing agency.

ERP No. F-FHW-D40305-WV WV-65 Transportation Improvement Project, Appalachian Corridor G near Belo to U.S. 52 at Naugatuck, Funding and U.S. Army COE Section 404 Permit Issuance, Mingo County, WV.

Summary: EPA expressed no objections to the Draft EIS. No comments were provided for the final document.

ERP No. F-FHW-H40166-MO MO-63 Corridor Project, Transportation Improvement extending from south of the Phelps/Maries County Line and south of Route W near Vida, Funding and U.S. Army COE Section 404 Permit Issuance City of Rolla, Phelps and Maries Counties, MO.

Summary: The FEIS adequately addressed issues previously raised by EPA.

ERP No. F-NOA-K39068-CA San Francisco Bay National Estuarine Research Reserve, Proposal to Designate Three Sites: China Camp State Park, Brown's Island Regional Parks District, and Rush Ranch Open Space Preserve, Contra Costa, Marin and Solano Counties, CA.

Summary: No formal comment letter was sent to the preparing agency.

ERP No. FS-FHW-K40166-HI Honoapiilani Highway/FAP Route 30 Improvement, New Information concerning Construction of Modifications to Honoapiilani Highway from Puamana to Honokowai, U.S. Army COE Permits and PDES Permit Issuance and Funding, Lahaina District, Maui County, HI.

Summary: EPA expressed continuing environmental concerns regarding deficiencies in the analyses of traffic impacts, cumulative impacts, water quality impacts, specific mitigation measures, and non-point source pollution associated with the proposed project. EPA recommended that FHWA and the Hawaii Department of Transportation commit to specific mitigation measures in the Record of Decision and provide an impact analysis of the five future connector roads in a single NEPA document.

Dated: September 3, 2002.
Joseph C. Montgomery,
Director, NEPA Compliance Division, Office of Federal Activities.

[FR Doc. 02-22732 Filed 9-5-02; 8:45 am]

BILLING CODE 6560-50-P